NATIONAL AERONAUTICS AND SPACE ADMINISTRATION

[Notice 04-023]

NASA Space Science Advisory Committee, Solar System Exploration Subcommittee; Meeting

AGENCY: National Aeronautics and Space Administration.

ACTION: Notice of meeting.

SUMMARY: The National Aeronautics and Space Administration announces a meeting of the NASA Space Science Advisory Committee (SScAC), Solar System Exploration Subcommittee (SSES).

DATES: Wednesday, February 25, 2004, 8:30 a.m. to 5:30 p.m.; Thursday, February 26, 2004, 8:30 a.m. to noon.

ADDRESSES: University of Arizona, Student Union Memorial Center, Picacho Room, 1303 East University Boulevard, Tucson, AZ 85719.

FOR FURTHER INFORMATION CONTACT: Dr. Jay Bergstralh, Code SE., National Aeronautics and Space Administration, Washington, DC 20546, (202) 358-0313, Jay.T.Bergstralh@nasa.gov.

SUPPLEMENTARY INFORMATION: The meeting will be open to the public up to the seating capacity of the room. The agenda for the meeting is as follows:

—Status of Solar System Exploration

—Status of Mars Exploration Program

—Early Results from Mars Exploration Rovers

—Science Requirements for Jupiter Icy Moons Orbiter (JIMO)

—Status of Planetary Data System

It is imperative that the meeting be held on these dates to accommodate the scheduling priorities of the key participants. Visitors will be requested to sign a visitor's register.

Michael F. O'Brien,
Assistant Administrator for External Relations, National Aeronautics and Space Administration.

[FR Doc. 04-2962 Filed 2-10-04; 8:45 am]

BILLING CODE 7510-01-U